FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

01/28/2019
20181405 | G | Sycamore Partners II, L.P.; Essendant Inc.; Sycamore Partners II, L.P.
01/31/2019
20190587 | G | Tivity Health, Inc.; Nutri System Inc; Tivity Health, Inc.
20190588 | G | Akamai Technologies, Inc.; HighBar Partners III, L.P.; Akamai Technologies, Inc.
20190600 | G | Siris Partners IV (Cayman) Main, L.P.; Travelport Worldwide Limited; Siris Partners IV (Cayman) Main, L.P.
20190634 | G | Vista Equity Partners Fund VI, L.P.; MINDBODY, Inc.; Vista Equity Partners Fund VI, L.P.
20190637 | G | VanEck Vectors ETF Trust; Compania de Minas Buenaventura S.A.A.; VanEck Vectors ETF Trust.
20190639 | G | Centerbridge Capital Partners III, L.P.; Civitas Solutions, Inc.; Centerbridge Capital Partners III, L.P.
20190642 | G | Five Point Energy Fund I LP; NGL Energy Partners LP; Five Point Energy Fund I LP.
20190644 | G | EQT Infrastructure III (No. 1) SCSp; Kodiak Gas Services, LLC; EQT Infrastructure III (No. 1) SCSp.
20190645 | G | Greif, Inc.; H.I.G. Bayside Debt & LBO Fund II, L.P.; Greif, Inc.
20190646 | G | Ullico Infrastructure Tax-Exempt Fund, L.P.; Southern Star Acquisition Corporation; Ullico Infrastructure Tax-Exempt Fund, L.P.
20190655 | G | ArcLight Energy Partners Fund VI, L.P.; Sempra Energy; ArcLight Energy Partners Fund VI, L.P.
20190658 | G | GIP II Blue Holding Partnership, L.P.; Hess Corporation; GIP II Blue Holding Partnership, L.P.
20190661 | G | Sierra Income Corporation; Medley Capital Corporation; Sierra Income Corporation.
20190665 | G | NGP Natural Resources X, L.P.; Chesapeake Energy Corporation; NGP Natural Resources X, L.P.
20190666 | G | NGP Natural Resources XI, L.P.; Chesapeake Energy Corporation; NGP Natural Resources XI, L.P.
20190668 | G | SoftBank Vision Fund (AIV M2) L.P.; Cambridge Mobile Telematics, Inc.; SoftBank Vision Fund (AIV M2) L.P.
20190669 | G | Genstar Capital Partners VI, L.P.; GC Lighthouse Holdings, Inc.; Genstar Capital Partners VI, L.P.
20190670 | G | GC Lighthouse Holdings, Inc.; Genstar Capital Partners VI, L.P.; GC Lighthouse Holdings, Inc.
20190672 | G | Waste Management Inc.; Tailwater Energy Fund II LP; Waste Management Inc.
20190678 | G | Macquarie Infrastructure Partners III, L.P.; Nippon Yusen Kabushiki Kaisha Ltd.; Macquarie Infrastructure Partners III, L.P.
20190680 | G | RTC Holdings, L.L.C.; EATELCORP, L.L.C.; RTC Holdings, L.L.C.
20190684 | G | Elliott International Limited; Roadrunner Transportation Systems, Inc.; Elliott International Limited.
20190687 | G | CHS Inc.; WCI Holdings Co.; CHS Inc.
20190692 | G | HAL Trust; Fletcher Building Limited; HAL Trust.
20190693 | G | William C. Adams; Robert A. Jeffreys; William C. Adams.
20190697 | G | Think and Learn Private Limited; Tangible Play, Inc.; Think and Learn Private Limited.
20190699 | G | Kelso Investment Associates IX, L.P.; Neil C. Krauter, Jr. Trust and The Christian Krauter Trust; Kelso Investment Associates IX, L.P.
20190702 | G | Investindustrial VI L.P.; Jupiter Holding I Corp.; Investindustrial VI L.P.
20190708 | G | Globetrotter Topco, Inc.; Welsh, Carson Anderson & Stowe XII, L.P.; Globetrotter Topco, Inc.
20190710 | G | Kyocera Corporation; Renovis Surgical Technologies, Inc.; Kyocera Corporation.
20190711 | G | Accel-KKR Capital Partners III, LP; The Sage Group plc; Accel-KKR Capital Partners III, LP.
20190716 | G | DXC Technology Company; IBS Group Holding Limited; DXC Technology Company.
20190726 | G | Zix Corporation; Marlin Equity IV AIV, L.P.; Zix Corporation.
20190728 | G | Vista Foundation Fund III, L.P.; Four Winds Interactive LLC; Vista Foundation Fund III, L.P.
20190729 | G | Paul J. Sarvadi; Insperity, Inc.; Paul J. Sarvadi.
20190733 | G | Shantanu Narayen; Adobe Inc.; Shantanu Narayen.
20190734 | G | Insight Holdings (DE), LP; reInvention Holdings, LLC; Insight Holdings (DE), LP.
20190735 | G | Gregory C. Case; Aon plc; Gregory C. Case.
20190736 | G | Canada Pension Plan Investment Board; Bloom Energy Corporation; Canada Pension Plan Investment Board.
20190740 | G | Novacap TMT IV, L.P.; Freudenberg & Co. Kommanditgesellschaft; Novacap TMT IV, L.P.

FOR FURTHER INFORMATION CONTACT: Theresa Kingsberry, Program Support Specialist, Federal Trade Commission Premerger Notification Office, Bureau of Competition, Room CC-5301, Washington, DC 20024, (202) 326-3100.

By direction of the Commission.
April Tabor,
Acting Secretary.

[FR Doc. 2019-07736 Filed 4-17-19; 8:45 am]

BILLING CODE 6750-01-P